DEPARTMENT OF COMMERCE

National Oceanic and Atmospheric Administration

[RTID 0648-XE412]

Endangered Species; File No. 28294

AGENCY: National Marine Fisheries Service (NMFS), National Oceanic and Atmospheric Administration (NOAA), Commerce.

ACTION: Notice; receipt of application.

SUMMARY: Notice is hereby given that Matthew Fisher (Normandeau Associates Inc., 2233 Spring Street, West Lawn, PA 19609), has applied in due form for a permit to take Atlantic (Acipenser oxyrinchus) and shortnose (A. brevirostrum) sturgeon for purposes of scientific research.

DATES: Written comments must be received on or before November 27, 2024.

ADDRESSES: The application and related documents are available for review by selecting “Records Open for Public Comment” from the “Features” box on the Applications and Permits for Protected Species home page, https://apps.nmfs.noaa.gov, and then selecting File No. 28294 from the list of available applications. These documents are also available upon written request via email to NMFS.Pr1Comments@noaa.gov.

Written comments on this application should be submitted via email to NMFS.Pr1Comments@noaa.gov. Please include File No. 28294 in the subject line of the email comment.

Those individuals requesting a public hearing should submit a written request via email to NMFS.Pr1Comments@noaa.gov. The request should set forth the specific reasons why a hearing on this application would be appropriate.

FOR FURTHER INFORMATION CONTACT: Erin Markin, Ph.D. or Malcolm Mohead, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests to conduct research on Atlantic and shortnose sturgeon in freshwater and estuary areas of the Delaware River. Research objectives would include assessing and quantifying the presence of Atlantic and shortnose sturgeon at the egg, larval, juvenile and sub-adult/adult life stages. Other studies would also include assessing sturgeon home range, individual movement patterns, seasonal movements, habitat use, nursery areas, over-wintering habitat use, population dynamics, and habitat assessment.

Up to 265 juvenile and 25 adult/sub-adult shortnose sturgeon and 265 juvenile and 5 adult/sub-adult Atlantic sturgeon would be captured by gill net or trawl, measured, weighed, biologically sampled (tissue), marked (passive integrated transponder), and photographed/videoed, annually, prior to release. Sub-sets of Atlantic and shortnose sturgeon may be anesthetized and implanted with acoustic transmitters, gastric lavaged, and fin ray sampled. The applicant requests one unintentional mortality of juvenile and adult/subadult shortnose sturgeon and one juvenile Atlantic sturgeon annually, but no more than two of each species life stage over the life of the permit.

A total 300 shortnose and 100 Atlantic sturgeon of early life stages would be taken in directed lethal research annually. The permit would be valid for up to 10 years from the date of issuance.

Dated: October 21, 2024.
Julia M. Harrison,
Chief, Permits and Conservation Division, Office of Protected Resources, National Marine Fisheries Service.

[FR Doc. 2024-24992 Filed 10-25-24; 8:45 am]

BILLING CODE 3510-22-P